DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on January 22, 2026. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On January 22, 2026, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

As a result, the property and interests in property subject to U.S. jurisdiction of the following persons are blocked under the relevant sanctions authorities listed below.

Individuals

1. MC DONAL RODRIGUEZ, Anita Yorleny (a.k.a. MCDONALD RODRIGUEZ, Anita), Limon, Costa Rica; DOB 04 Oct 1974; nationality Costa Rica; Gender Female; Cedula No. 701120514 (Costa Rica) (individual) [ILLICIT-DRUGS-EO14059] (Linked To: PICADO GRIJALBA, Luis Manuel).

Designated pursuant to section 1(b)(iii) of E.O. 14059 for being owned, controlled, or directed by, or having acted or purported to act for or on behalf of, Luis Manuel Picado Grijalba, a person whose property and interests in property are blocked pursuant to E.O. 14059.

2. MC DONALD RODRIGUEZ, Estefania (a.k.a. MCDONALD RODRIGUEZ, Estefania), Costa Rica; DOB 09 Apr 1992; nationality Costa Rica; Gender Female; Cedula No. 702100887 (Costa Rica) (individual) [ILLICIT-DRUGS-EO14059] (Linked To: PICADO GRIJALBA, Luis Manuel).

Designated pursuant to section 1(b)(iii) of E.O. 14059 for being owned, controlled, or directed by, or having acted or purported to act for or on behalf of, Luis Manuel Picado Grijalba, a person whose property and interests in property are blocked pursuant to E.O. 14059.

3. PENA RUSSELL, Tonny Alexander (Latin: PEÑA RUSSELL, Tonny Alexander), Limon, Costa Rica; DOB 29 Dec 1987; nationality Costa Rica; Gender Male; Cedula No. 701820333 (Costa Rica) (individual) [ILLICIT-DRUGS-EO14059] (Linked To: PICADO GRIJALBA, Luis Manuel).

Designated pursuant to section 1(b)(i)(B) of E.O. 14059 for having provided, or attempted to provide, financial, material, or technological support for, or goods or services in support of, Luis Manuel Picado Grijalba, a person whose property and interests in property are blocked pursuant to E.O. 14059.

4. PICADO GRIJALBA, Luis Manuel (a.k.a. “Shock”), Limon, Costa Rica; DOB 22 Dec 1981; nationality Costa Rica; Gender Male; Cedula No. 801190098 (Costa Rica) (individual) [ILLICIT-DRUGS-EO14059].

Designated pursuant to section (1)(a)(i) of E.O. 14059 for having engaged in, or attempted to engage in, activities or transactions that have materially contributed to, or pose a significant risk of materially contributing to, the international proliferation of illicit drugs or their means of production.

5. PICADO GRIJALBA, Jordie Kevin (a.k.a. “Noni”), Limon, Costa Rica; DOB 19 May 1993; nationality Costa Rica; Gender Male; Cedula No. 702200042 (Costa Rica) (individual) [ILLICIT-DRUGS-EO14059].

Designated pursuant to section (1)(a)(i) of E.O. 14059 for having engaged in, or attempted to engage in, activities or transactions that have materially contributed to, or pose a significant risk of materially contributing to, the international proliferation of illicit drugs or their means of production.

Entities

1. 3-101-507688 SA, Limon, Costa Rica; Tax ID No. 3-101-507688 (Costa Rica) [ILLICIT-DRUGS-EO14059] (Linked To: MC DONALD RODRIGUEZ, Estefania).

Designated pursuant to section 1(b)(iii) of E.O. 14059 for being owned, controlled, or directed by, or having acted or purported to act for or on behalf of, Estefania Mc Donald Rodriguez, a person whose property and interests in property are blocked pursuant to E.O. 14059.

2. ASOCIACION DE LIDERES LIMONENSES DEL SECTOR PESQUERO (a.k.a. “ASOLIPES”), Limon, Costa Rica; Tax ID No. 3-002-384913 (Costa Rica) [ILLICIT-DRUGS-EO14059] (Linked To: MC DONAL RODRIGUEZ, Anita Yorleny).

Designated pursuant to section 1(b)(iii) of E.O. 14059 for being owned, controlled, or directed by, or having acted or purported to act for or on behalf of, Anita Yorleny Mc Donal Rodriguez, a person whose property and interests in property are blocked pursuant to E.O. 14059.

3. CELAJES DE YORK CDY SA, Limon, Costa Rica; Tax ID No. 3-101-313254 (Costa Rica) [ILLICIT-DRUGS-EO14059] (Linked To: MC DONALD RODRIGUEZ, Estefania).

Designated pursuant to section 1(b)(iii) of E.O. 14059 for being owned, controlled, or directed by, or having acted or purported to act for or on behalf of, Estefania Mc Donald Rodriguez, a person whose property and interests in property are blocked pursuant to E.O. 14059.

4. INVERSIONES LAURITA L AND L SA (a.k.a. INVERSIONES LAURITA L&L SA), San Jose, Costa Rica; Tax ID No. 3-101-703720 (Costa Rica) [ILLICIT-DRUGS-EO14059] (Linked To: MC DONALD RODRIGUEZ, Estefania).

Designated pursuant to section 1(b)(iii) of E.O. 14059 for being owned, controlled, or directed by, or having acted or purported to act for or on behalf of, Estefania Mc Donald Rodriguez, a person whose property and interests in property are blocked pursuant to E.O. 14059.

5. MAGIC ESTHETIC SALON SA, San Jose, Costa Rica; Tax ID No. 3-101-800676 (Costa Rica) [ILLICIT-DRUGS-EO14059] (Linked To: MC DONALD RODRIGUEZ, Estefania; Linked To: MC DONAL RODRIGUEZ, Anita Yorleny).

Designated pursuant to section 1(b)(iii) of E.O. 14059 for being owned, controlled, or directed by, or having acted or purported to act for or on behalf of, Estefania Mc Donald Rodriguez, a person whose property and interests in property are blocked pursuant to E.O. 14059.

Designated pursuant to section 1(b)(iii) of E.O. 14059 for being owned, controlled, or directed by, or having acted or purported to act for or on behalf of, Anita Yorleny Mc Donal Rodriguez, a person whose property and interests in property are blocked pursuant to E.O. 14059.

Bradley T. Smith,
Director, Office of Foreign Assets Control.

[FR Doc. 2026-01661 Filed 1-27-26; 8:45 am]

BILLING CODE 4810-AL-P